DEPARTMENT OF ENERGY

Energy Employees Occupational Illness Compensation Program Act of 2000; Revision to List of Covered Facilities

AGENCY: Department of Energy.

ACTION: Notice of revision of listing of covered facilities.

SUMMARY: Periodically, the Department of Energy (“Department” or “DOE”) publishes a list of facilities covered under the Energy Employees Occupational Illness Compensation Program Act of 2000 (“Act”), Title 36 of Public Law 106-398 (66 FR 4003; 66 FR 31218). This notice revises the previous lists because it has been found that some designated atomic weapons employers should not have been so designated. Previous lists were published on August 23, 2004, July 21, 2003, December 27, 2002, June 11, 2001 and January 17, 2001.

FOR FURTHER INFORMATION CONTACT: Michael A. Montopoli, MD, MPH, Acting Director, Office of Health Services (EH-54) 202-586-6178.

ADDRESSES: The Department welcomes comments on this list. Comments should be addressed to: Michael A. Montopoli, MD, MPH, Acting Director, Office of Health Services (EH-54), U.S. Department of Energy, 1000 Independence Avenue, SW., Washington, DC 20585.

SUPPLEMENTARY INFORMATION:

Purpose

The Energy Employees Occupational Illness Compensation Program Act of 2000 (“Act”), Title 36 of Public Law 106-398, establishes a program to provide compensation to certain employees who developed illnesses as a result of their employment with the Department of Energy, its predecessor agencies and certain of its contractors and subcontractors. Section 3621 defines an atomic weapons employer (AWE) as an entity, other than the United States, that (A) processed or produced, for use by the United States, material that emitted radiation and was used in the production of an atomic weapon, excluding uranium mining and milling; and (B) is designated by the Secretary of Energy as an atomic weapons employer for purposes of the compensation program. Section 3621 goes on to define an atomic weapons employer facility as a facility, owned by an atomic weapons employer, that is or was used to process or produce, for use by the United States, material that emitted radiation and was used in the production of an atomic weapon, excluding uranium mining or milling.

It has recently come to the attention of the Department that a number of entities previously designated as AWE's failed the basic definitional test for an AWE because the designated entities were agencies of the United States Government. Since the definition of an AWE specifically excludes the United States, these previously-made designations are invalid. To make it clear that these entities are not covered under the Act, this notice formally removes the following entities from the list.

• Frankford Arsenal, previously designated as an AWE in Philadelphia, Pennsylvania

• National Bureau of Standards, Van Ness Street, previously designated as an AWE in the District of Columbia

• Seneca Army Depot, previously designated as an AWE in Romulus, New York

• Picatinny Arsenal, previously designated as an AWE in Dover, New Jersey

Issued in Washington, DC, November 23, 2005.
Steven V. Cary,
Deputy Assistant Secretary for Health, Office of Environment, Safety and Health.

[FR Doc. E5-6706 Filed 11-29-05; 8:45 am]

BILLING CODE 6450-01-P